DEPARTMENT OF COMMERCE

National Oceanic and Atmospheric Administration

RIN 0648-XD055

North Pacific Fishery Management Council; Public Meeting

AGENCY: National Marine Fisheries Service (NMFS), National Oceanic and Atmospheric Administration (NOAA), Commerce.

ACTION: The North Pacific Fishery Management Council (NPFMC) will hold a Crab Modeling Workshop.

SUMMARY: The workshop will be held January 14-17 at the Hilton Hotel, 500 West Third Avenue, Katmai/King Salmon, Anchorage, AK.

DATES: The workshop will be held January 14-17, 2014, from 9 a.m. to 5 p.m.

ADDRESSES: The workshop will be held at the Anchorage Hilton Hotel, 500 West Third Avenue, Anchorage, AK.

Council address: North Pacific Fishery Management Council, 605 W. 4th Avenue, Suite 306, Anchorage, AK 99501-2252.

FOR FURTHER INFORMATION CONTACT: Diana Stram, NPFMC; telephone: (907) 271-2809.

SUPPLEMENTARY INFORMATION: The agenda includes:

Application of a generic crab modeling framework to two BSAI crab stocks: Bristol Bay red king crab and Norton Sound red king crab.

The Agenda is subject to change, and the latest version will be posted at http://www.alaskafisheries.noaa.gov/npfmc/

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: December 23, 2013.
Tracey L. Thompson,
Acting Deputy Director, Office of Sustainable Fisheries, National Marine Fisheries Service.

[FR Doc. 2013-31039 Filed 12-26-13; 8:45 am]

BILLING CODE 3510-22-P